DEPARTMENT OF DEFENSE

Department of the Army

[Docket ID: USA-2024-HQ-0003]

Proposed Collection; Comment Request

AGENCY: U.S. Army Corps of Engineers (USACE), Department of the Army, Department of Defense (DoD).

ACTION: 60-Day information collection notice.

SUMMARY: In compliance with the Paperwork Reduction Act of 1995, the USACE announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 29, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the USACE Institute for Water Resources, 7701 Telegraph Road, Alexandria, Virginia 22315, ATTN: Mr. Kevin Knight, or call 703-428-7250.

SUPPLEMENTARY INFORMATION:

Title; Associated Form; and OMB Number: Flood and Coastal Storm Damage Surveys; OMB Control Number 0710-0017.

Needs and Uses: The USACE provides flood risk management structural and nonstructural mitigation, planning and tech services to communities, residents and businesses at risk of flooding. Flood damage surveys are administered by USACE and its contractors to determine the impacts and potential impacts of flooding and to determine how communities, residents, and businesses respond to flooding. The data are used for estimating damage for factors such as depth of flooding, construction types, and different occupancies of use, which influences project formulation and budgeting.

Affected Public: Business or other for-profit; individuals or households; not-for-profit institutions; State, local, or Tribal government.

Annual Burden Hours: 1,150.

Number of Respondents: 3,000.

Responses per Respondent: 1.

Annual Responses: 3,000.

Average Burden per Response: 23 minutes.

Frequency: On occasion.

Dated: February 22, 2024.
Aaron T. Siegel,
Alternate OSD Federal Register Liaison Officer, Department of Defense.

[FR Doc. 2024-03998 Filed 2-26-24; 8:45 am]

BILLING CODE 6001-FR-P